DEPARTMENT OF ENERGY

Federal Energy Regulatory Commission

Notice of Application Tendered for Filing With the Commission, Soliciting Additional Study Requests, and Establishing Procedural Schedule for Relicensing and a Deadline for Submission of Final Amendments

August 7, 2002.

Take notice that the following hydroelectric application has been filed with the Commission and is available for public inspection.

a. Type of Application: New Major License.

b. Project No.: 2726-012.

c. Date Filed: July 29, 2002.

d. Applicant: Idaho Power Company.

e. Name of Project: Upper and Lower Malad Hydroelectric Project.

f. Location: On the Malad River in Gooding County, Idaho, approximately 3 miles north of Hagerman, Idaho.

g. Filed Pursuant to: Federal Power Act 16 U.S.C. 791 (a)-825”).

h. Applicant Contact: Robert W. Stahman, Idaho Power Company, P.O. Box 70, Boise, Idaho 83707, (208) 388-2676.

I. FERC Contact: John Blair (202) 502-6092 or john.blair@FERC.gov.

j. Cooperating agencies: We are asking Federal, state, local, and tribal agencies with jurisdiction and/or special expertise with respect to environmental issues to cooperate with us in the preparation of the environmental document. Agencies who would like to request cooperating status should follow the instructions for filing comments described in item k below.

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: September 26, 2002.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests and requests for cooperating agency status may be filed electronically via the Internet in lieu of paper. The Commission strongly encourages electronic filings. See 18 CFR 385.2001(a)(1)(iii) and the instructions on the Commission's web site (http://www.ferc.gov) under the “e-Filing” link.

m. This application is not ready for environmental analysis at this time.

n. The existing project consists of: (1) An upper diversion dam consisting of a gated spillway section 100 feet long and a flume section 123 feet long; (2) A concrete flume 4,635 feet long between the upper diversion dam and the upper intake structure; (3) The upper concrete intake structure 80.5 feet long and approximately 21 feet wide; (4) A steel penstock 10 feet in diameter and approximately 238 feet long connected to the upper powerhouse; (5) The upper reinforced concrete powerhouse containing one generating unit having an installed nameplate capacity of 8.27 megawatts; (6) A lower diversion dam consisting of a gated spillway section 163 feet long and a flume section 136 feet long; (7) A concrete flume 5,318 feet long between the lower diversion dam and the lower intake structure; (8) The lower concrete intake structure 85 feet long and approximately 23 feet wide; (9) A steel penstock 12 feet in diameter and approximately 301 feet long connected to the lower powerhouse; (10) The lower reinforced concrete powerhouse containing one generating unit having an installed nameplate capacity of 13.5 megawatts; and (11) Other appurtenances.

o. A copy of the application is on file with the Commission and is available for public inspection. This filing is available for review at the Commission in the Public Reference Room or may be viewed on the Commission's website at http://www.ferc.gov using the “FERRIS” link. Enter the docket number excluding the last three digits in the docket number field to access the document. For assistance, call (202) 502-8222 or for Text Telephone (TTY) call (202) 208-1659. A copy is also available for inspection and reproduction at the address in item h above.

p. With this notice, we are initiating consultation with the Idaho State Historic Preservation Officer (SHPO), as required by § 106, National Historic Preservation Act, and the regulations of the Advisory Council on Historic Preservation, 36 CFR 800.4.

q. Procedural schedule and final amendments: The application will be processed according to the following Hydro Licensing Schedule. Revisions to the schedule will be made as appropriate.

Issue Acceptance Letter—October 2002;

Request Additional Information—October 2002;

Issue Scoping Document 1 for comments—January 2003;

Request Additional Information—March 2003;

Issue Scoping Document 2—April 2003;

Notice of application is ready for environmental analysis—May 2003;

Notice of the availability of the draft EA—October 2003;

Notice of the availability of the final EA—January 2004;

Ready for Commission's decision on the application—February 2004;

Final amendments to the application must be filed with the Commission no later than 30 days from the issuance date of the notice of ready for environmental analysis.

Linwood A. Watson, Jr.,
Deputy Secretary.

[FR Doc. 02-20545 Filed 8-13-02; 8:45 am]

BILLING CODE 6717-01-P